DEPARTMENT OF AGRICULTURE

Forest Service

Wrangell-Petersburg Reservoir Advisory Committee

AGENCY: Forest Service, USDA.

ACTION: Notice of meeting.

SUMMARY: The Wrangell-Petersburg Resource Advisory Committee (RAC) will meet from 1 p.m. until 5:15 p.m. (or until the conclusion of public testimony) on Friday, January 23, and from 8 a.m. until 1 p.m., Saturday, January 24, 2004, in Petersburg, Alaska. The purpose of this meeting is to review, discuss and potentially recommend for funding proposals received pursuant to Title II, Public Law 106-393, H.R. 2389, the Secure Rural Schools and Community Self-Determination Act of 2000, also called the “Payments to States” Act. Public testimony regarding the proposals will also be taken.

DATES: The meeting will be held commencing at 1 p.m. on Friday, January 23, through 1 p.m., Saturday, January 24, 2004.

ADDRESSES: The meeting will be held at the Petersburg Lutheran Church, Holy Cross House, 407 Fram Street, Petersburg, Alaska.

FOR FURTHER INFORMATION CONTACT: Chip Weber, Wrangell District Ranger, P.O. Box 51, Wrangell, AK 99929, phone (907) 874-2323, e-mail cweber@fs.fed.us, or Patty Grantham, Petersburg District Ranger, P.O. Box 1328, Petersburg, AK 99833, phone (907) 772-3871, e-mail pagrantham@fs.fed.us. For further information on RAC history, operations, and the applications process, a Web site is available at http://www.fs.fed.us/r10/ro/payments.

SUPPLEMENTARY INFORMATION: This meeting will focus on the review and discussion of proposals received by the RAC for funding under Title II of the Payments to States legislation (Pub. L. 106-393), particularly proposals that were of high interest to the committee, but lacked enough information for the committee to act. New information will be introduced concerning these proposals. No new proposals (initial reading) will be discussed at this meeting. The committee may make recommendations for project funding at this meeting. A field trip to review proposals proximate to the Petersburg, Alaska, area may take place. The meeting is open to the public. Should members of the public wish to participate in the potential field trip, please contact Patty Grantham or Chip Weber at the above noted addresses/e-mails/telephone numbers. Public input opportunity will be provided and individuals will have the opportunity to address the committee at that time.

Dated: December 22, 2003.
Dennis Neill,
Acting Forest Supervisor.

[FR Doc. 04-66 Filed 1-2-04; 8:45 am]

BILLING CODE 3410-11-M